DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of May 7 through May 11, 2007.

In order for an affirmative determination to be made for workers of a primary firm and a certification issued regarding eligibility to apply for worker adjustment assistance, each of the group eligibility requirements of Section 222(a) of the Act must be met.

I. Section (a)(2)(A), all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B), both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of section 222(a)(2)(A) (increased imports) of the Trade Act have been met.

TA-W-61, 241; Navisa, Inc., Brenham, TX: April 2, 2006.

TA-W-61, 254; American and Efird, Inc., dba Robison Anton Textile Company, Fairview Division, Fairview, NJ: April 5, 2006.

The following certifications have been issued. The requirements of Section 222(a)(2)(B) (shift in production) of the Trade Act have been met.

TA-W-61, 162; Hoffman LaRoche, Inc., Quality Management—Analytical Development Division, Nutley, NJ: March 20, 2006.

TA-W-61, 230; Transwitch Corporation, Reference Systems Development Department, Shelton, CT: March 27, 2006.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-61,381; Distel Tool and Machine Company, Warren, MI: April 24, 2006.

TA-W-61,403; WestPoint Home, Inc., Formerly know as Westport Stevens, Bed Products Div. Finishing Plant, Opelika, AL: April 24, 2006.

TA-W-60,857; Asec Manufacturing, A Subsidiary of Delphi Corp., Catoosa, OK: January 22, 2006.

TA-W-61,075; Emerald Kalama Chemical, LLC, Kalama, WA: March 6, 2006.

TA-W-61,184; Diversified Precision Products, Spring Arbor, MI: March 21, 2006.

TA-W-61,244; IAC Sheboygan, LLC, Formerly Known as Lear, Sheboygan, WI: March 9, 2006.

TA-W-61,432; Deluxe Media Services LLC, Distribution Facility, Pleasant Prairie, WI: May 2, 2006.

TA-W-61,245; Addison Shoe Company, A Division and of Munro and Co., Inc., Wynne, AR: May 13, 2007.

The following certifications have been issued. The requirements of Section 222(a)(2)(B) (shift in production) and Section 246(a)(3)(A)(ii) of the Trade Act have been met.

TA-W-61,252; Wetherill Associates, Transpo Division, Orlando, FL: March 27, 2006.

TA-W-61,330; Valeo Electrical Systems, Inc., North American Wipers Division, Rochester, NY: March 17, 2007.

TA-W-61,391; B. Braun of Puerto Rico, Inc., B. Braun Medical Division, Leased Workers of Addeco, Sabana Grande, PR: April 23, 2006.

The following certifications have been issued. The requirements of Section 222(b) (supplier to a firm whose workers are certified eligible to apply for TAA) and Section 246(a)(3)(A)(ii) of the Trade Act have been met.

None.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

TA-W-61,254; American and Efird, Inc., dba Robison Anton Textile Company, Fairview Division, Fairview, NJ.

TA-W-61,230; Transwitch Corporation, Reference Systems Development Department, Shelton, CT.

The Department has determined that criterion (2) of Section 246 has not been met. Workers at the firm possess skills that are easily transferable.

TA-W-61,241; Navisa, Inc., Brenham, TX.

TA-W-61,162; Hoffman LaRoche, Inc., Quality Management—Analytical Development Division, Nutley, NJ.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

None.

The investigation revealed that criteria (a)(2)(A)(I.B.) (Sales or production, or both, did not decline) and (a)(2)(B)(II.B.) (shift in production to a foreign country) have not been met.

TA-W-61,136; Electric Mills Kentucky, Division of EMF Corporation, Burkesville, KY.

TA-W-61,149; Johnson Controls Battery Group, Inc., Fullerton Distribution Center, Fullerton, CA.

TA-W-61,185; Loparex, Inc., Dixon, IL.

The investigation revealed that criteria (a)(2)(A)(I.C.) (increased imports) and (a)(2)(B)(II.B.) (shift in production to a foreign country) have not been met.

TA-W-60,949; National Apparel, LLC, San Francisco, CA.

TA-W-61,214; Llink Technologies, LLC, Brown City, MI.

TA-W-61,281; Form Tech Industries LLC, Canal Fulton, OH.

TA-W-61,293; Georgia Pacific Corrugated Number 1 LLC, aka Great Northern Nekoosa Corp., Ridgeway, VA.

TA-W-61,324; Ford Motor Company, Vehicle Operation Division, Wixom Assembly, Leased Workers of G-Tech, MSX, Wixom, MI.

TA-W-61,416; Golden Manufacturing Company, Inc., Marietta, MS.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

None.

The workers' firm does not produce an article as required for certification under Section 222 of the Trade Act of 1974.

TA-W-61,199; Emerson Network Power, Energy Systems, North America, Lorain, OH.

TA-W-61,299; Isaco International Corp., Miami Lakes, FL.

TA-W-61,369; Wood Tech Enterprises, Inc., Fairview, NC.

The investigation revealed that criteria of Section 222(b)(2) has not been met. The workers' firm (or subdivision) is not a supplier to or a downstream producer for a firm whose workers were certified eligible to apply for TAA.

None.

I hereby certify that the aforementioned determinations were issued during the period of May 7 through May 11, 2007. Copies of these determinations are available for inspection in Room C-5311, U.S. Department of Labor, 200 Constitution Avenue, NW., Washington, DC 20210 during normal business hours or will be mailed to persons who write to the above address.

Dated: May 16, 2007.
Ralph Dibattista,
Director, Division of Trade Adjustment Assistance.

[FR Doc. E7-10015 Filed 5-23-07; 8:45 am]

BILLING CODE 4510-FN-P